DEPARTMENT OF VETERANS AFFAIRS

[OMB Control No. 2900—NEW]

Agency Information Collection Activity Under OMB Review: Veterans Experience Access Survey Questions Scheduling Appointment: Survey Reporting

AGENCY: Veterans Experience Office (VEO), Department of Veterans Affairs.

ACTION: Notice.

SUMMARY: In compliance with the Paperwork Reduction Act (PRA) of 1995, this notice announces that the Veterans Experience Office (VEO), Department of Veterans Affairs, will submit the collection of information abstracted below to the Office of Management and Budget (OMB) for review and comment. The PRA submission describes the nature of the information collection and its expected cost and burden and it includes the actual data collection instrument.

DATES: Comments must be submitted on or before February 21, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900—NEW” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900—NEW” in any correspondence.

SUPPLEMENTARY INFORMATION:

Authority: Public Law 104-13; 44 U.S.C. 3501-3521.

Title: Veterans Experience Access Survey Questions Scheduling Appointment: Survey Reporting.

OMB Control Number: 2900—NEW.

Type of Review: Approval for public dissemination of survey data.

Abstract: Veterans Experience Access Outpatient Survey Questions Scheduling Appointment is used to gather near real time feedback about specific interactions Veterans have with the Department of Veterans Affairs regarding their Outpatient medical experiences. The data collected will be publicly disseminated. An agency may not conduct or sponsor, and a person is not required to respond to a collection of information unless it displays a currently valid OMB control number. The Federal Register Notice with a 60-day comment period soliciting comments on this collection of information was published at Vol. 82 FR No. 187 on September 28, 2017, page 45362.

Affected Public: Individuals.

Estimated Annual Burden: 30,000 hours annually.

Estimated Average Burden per Respondent: 1 minute.

Frequency of Response: Once.

Estimated Number of Respondents: 1.8 million annually.

By direction of the Secretary.
Cynthia Harvey-Pryor,
Department Clearance Officer, Office of Quality, Privacy and Risk, Department of Veterans Affairs.

[FR Doc. 2018-01019 Filed 1-19-18; 8:45 am]

BILLING CODE 8320-01-P